FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 21, 2008.

A. Federal Reserve Bank of Atlanta (Steve Foley, Vice President) 1000 Peachtree Street, N.E., Atlanta, Georgia 30309:

1. Delmo R. Payne and Wilmuth Payne, both of Hamilton, Alabama, to acquire additional voting shares of Hometown Bancshares, Inc., and thereby indirectly acquire additional voting shares of PeoplesTrust Bank, both of Hamilton, Alabama.

2. Gerald Terrell, Faye Terrell, Donald L. Terrell, and Danny Terrell, all of Hamilton, Alabama; Audrey Garrett and William Garrett, both of Birmingham, Alabama, to acquire additional voting shares of Hometown Bancshares, Inc., and thereby indirectly acquire additional voting shares of PeoplesTrust Bank, both of Hamilton, Alabama.

B. Federal Reserve Bank of Dallas (E. Ann Worthy, Vice President) 2200 North Pearl Street, Dallas, Texas 75201-2272:

1. Clyde Ray White, Clydine Covington White, and Jarrah Reed White, all of Monroe, Louisiana; Larry Nolan White and Virginia Owens White, both of Colleyville, Texas; and Patrick Slade White, Huntsville, Alabama, acting in concert to acquire voting shares of Ouachita Bancshares Corporation, and thereby indirectly acquire voting shares of Ouachita Independent Bank, both of Monroe, Louisiana.

Board of Governors of the Federal Reserve System, October 1, 2008.
Robert deV. Frierson,
Deputy Secretary of the Board.

[FR Doc. E8-23521 Filed 10-3-08; 8:45 am]

BILLING CODE 6210-01-S